DEPARTMENT OF TRANSPORTATION

Federal Aviation Administration

14 CFR Part 39

[Docket No. FAA-2014-0132; Directorate Identifier 2012-NM-007-AD; Amendment 39-18023; AD 2014-23-07]

RIN 2120-AA64

Airworthiness Directives; Airbus Airplanes

AGENCY: Federal Aviation Administration (FAA), Department of Transportation (DOT).

ACTION: Final rule.

SUMMARY: We are superseding Airworthiness Directive (AD) 2004-16-01 for certain Airbus Model A330-200 and -300 series airplanes and Model A340-200 and -300 series airplanes. AD 2004-16-01 required repetitive inspections for cracking of the chromed area of the left and right piston rods for the main landing gear (MLG) retraction actuators, and related investigative and corrective actions if necessary. This new AD requires repetitive draining of any fluid from the retraction actuator piston rod internal volume and sealing of the vent hole; repetitive ultrasonic inspections of the upper end of the piston rods, and corrective actions if necessary; a one-time ultrasonic inspection (longitudinal and circumferential) of the full length of the piston rod, and corrective actions if necessary; and a terminating modification of the left-hand and right-hand MLG retraction actuators. This AD was prompted by reports of the piston rods for the MLG retraction actuators rupturing during flight. We are issuing this AD to prevent cracking of the piston rods for the MLG retraction actuators, which could result in rupture of a piston rod, non-damped extension of the MLG, high loads on the fully extended MLG, and consequent reduced structural integrity of the MLG.

DATES: This AD becomes effective December 31, 2014.

The Director of the Federal Register approved the incorporation by reference of certain publications listed in this AD as of December 31, 2014.

The Director of the Federal Register approved the incorporation by reference of certain other publications listed in this AD as of August 19, 2004 (69 FR 46979, August 4, 2004).

ADDRESSES: You may examine the AD docket on the Internet at http://www.regulations.gov/#!docketDetail;D=FAA-2014-0132; or in person at the Docket Management Facility, U.S. Department of Transportation, Docket Operations, M-30, West Building Ground Floor, Room W12-140, 1200 New Jersey Avenue SE., Washington, DC.

For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 to supersede AD 2004-16-01, Amendment 39-13757 (69 FR 46979, August 4, 2004). AD 2004-16-01 applied to certain Airbus Model A330-200 and -300 series airplanes and Model A340-200 and -300 series airplanes. The NPRM published in the Federal Register on February 6, 2014 (79 FR 7098; corrected March 20, 2014 (79 FR 15555)). The NPRM was prompted by reports of the piston rods for the MLG retraction actuators rupturing during flight.

The European Aviation Safety Agency (EASA), which is the Technical Agent for the Member States of the European Community, has issued EASA AD 2011-0178R1, dated March 6, 2012, corrected March 7, 2012 (for Model A340-200 and -300 series airplanes); and EASA AD 2011-0179R1, dated March 6, 2012 (for Model A330-200 and -300 series airplanes) (both referred to after this as the Mandatory Continuing Airworthiness Information, or “the MCAI”); to correct an unsafe condition for the specified products. EASA AD 2011-0178R1, dated March 6, 2012, corrected March 7, 2012, states:

During an approach phase, the flight crew of an A330 aeroplane had to perform a free-fall extension of the left-hand (LH) MLG.

Rupture of the LH MLG retraction actuator piston rod was found near the rod attachment point. The inspection revealed at the location of the rupture the presence of corrosion resulting from incorrect application of the anticorrosion protection, and circumferential cracks resulting from normal operational loading effects.

Since the above rupture, new cases of crack propagation along the length of the piston rod occurred. These ruptures led to a non-damped extension of the landing gear. Fully extended, the landing gear assembly was submitted to high loads jeopardising its structural integrity.

This condition, if not detected and corrected, could lead to MLG failure during landing or roll-out and consequent damage to the aeroplane and injury to occupants.

DGAC [Direction Générale de l'Aviation Civile] France issued AD F-2005-098 [http://ad.easa.europa.eu/blob/easa_ad_2005_5887_F20050980tb_superseded.pdf/AD_F-2005-098_1] (EASA approval 2005-5887) [and AD F-2005-099 [http://ad.easa.europa.eu/blob/easa_ad_2005_5888_F20050990tb_superseded.pdf/AD_F-2005-099_2] (EASA approval 2005-5888)] to address this unsafe condition [the FAA issued AD 2004-16-01, Amendment 39-13757 (69 FR 46979, August 4, 2004)]. Since that [DGAC France] AD was issued, the results of extensive investigation determined that the presence of water in the internal volume of the piston rod can lead to the formation of ice which represents a potential source of high magnitude tensile hoop stresses in the material of the rod, leading to propagation of longitudinal crack in the body of the piston rod.

Prompted by these findings, EASA issued AD 2006-0301 [http://ad.easa.europa.eu/blob/easa_ad_2006_0301_R2_superseded.pdf/AD_2006-0301R2_1], partially retaining the requirements of DGAC France AD F-2005-099, which was superseded, and to revise the inspection requirements as follows:

a. Extend the repetitive inspections interval for the removal of fluid from the internal volume of the piston rod using flight cycles in lieu of flight hours as this better represents the mechanism for the accumulation of water within the piston rod.

b. Remove the preliminary visual inspection from the ultrasonic longitudinal inspection of the upper end of the piston rod.

c. Add a new one-time ultrasonic longitudinal and circumferential inspection of the full piston rod length to eliminate any parts that exhibit severe corrosion along the internal length of the piston rod.

d. Require installation of new design hollow piston rod Part Number (P/N) 114256328 (Airbus mod. 52980—SB A340-32-4222 Revision 01) without a vent hole, thus eliminating moisture ingress as the terminating action.

EASA AD 2006-0301 was later revised:

—at revision 01, to correct a number of typographical errors and to add reference to Airbus SB A340-32-4212 Revision 04, and

—at revision 02 to extend the inspections threshold from 3 to 6 years in service usage for retraction actuator piston rod P/N 114256321 issue 06 which was re-identified to P/N 114256326 issue 01 in accordance with the instructions of Airbus SB A340-32-4260.

More recently, the sampling of piston rod P/N 114256326 issue 1 and P/N 114256321 issue 06 have confirmed the need to replace all retraction actuator piston rods with a piston rod P/N114256328.

For the reasons described above, this [EASA] AD at original issue retained the requirements of EASA AD 2006-0301R2 (http://ad.easa.europa.eu/blob/easa_ad_2006_0301_R2_superseded.pdf/AD_2006-0301R2_1), which is superseded, and required the replacement of all retraction actuator piston rods with a piston rod P/N 114256328, which constitutes terminating action to the repetitive requirements of this AD.

This [EASA] AD is revised to clarify that aeroplanes on which Airbus mod. 52980 has been embodied in production are not required to accomplish the reidentification of MLG retraction actuator P/N 114256002-055 which is mentioned in the accomplishment instructions of Airbus SB A340-32-4222 Revision 03.

This [EASA] AD has been republished to correct a typographical mistake of the applicable Airbus SB number in the Applicability (in the Note) and in the Reason sections of this [EASA] AD.

You may examine the MCAI in the AD docket on the Internet at http://www.regulations.gov/#!documentDetail;D=FAA-2014-0132-0003.

Comments

We gave the public the opportunity to participate in developing this AD. The following presents the comments received on the NPRM (79 FR 7098, February 6, 2014; corrected March 20, 2014 (79 FR 15555)), and the FAA's response to each comment.

Request To Reference Latest Service Information

Delta Airlines requested that we reference the latest Airbus service information, which is Airbus Service Bulletin A330-32-3180, Revision 05, dated January 27, 2014. Delta Airlines further requested that we provide credit for actions previously accomplished using Airbus Service Bulletin A330-32-3180, Revision 03, dated January 28, 2011; and Airbus Service Bulletin A330-32-3180, Revision 04, dated July 30, 2013.

We agree with Delta Airlines' comment to reference the latest service information. Airbus Service Bulletin A330-32-3180, Revision 05, dated January 27, 2014, provides the latest information on the modification required by this AD. This service bulletin specifies two additional work-hours for re-identification of the part number of the MLG retraction actuator for Model A330-200 and -300 series airplanes at configuration 3, which were modified as described in Airbus Service Bulletin A330-32-3180, Revision 03, dated January 28, 2011. Re-identification of the MLG retraction actuator may be considered as a logical outgrowth of the proposed AD (79 FR 7098, February 6, 2014; corrected March 20, 2014 (79 FR 15555)) requirements.

Airbus has also released Service Bulletin A340-32-4222, Revision 04, dated July 30, 2013. This service bulletin also specifies two additional work-hours for re-identification of the part number of the MLG retraction actuator for Model A340 series airplanes. There are currently no U.S.-registered Model A340 series airplanes. We have revised paragraphs (s) and (t) of this AD to specify Airbus Service Bulletin A330-32-3180, Revision 05, dated January 27, 2014; and Airbus Service Bulletin A340-32-4222, Revision 04, dated July 30, 2013; as the appropriate sources of service information for the required actions in those paragraphs. We have also revised paragraphs (w)(2) and (w)(3) of this AD to provide credit for previous actions accomplished using Airbus Service Bulletin A330-32-3180, Revision 03, dated January 28, 2011; Airbus Service Bulletin A330-32-3180, Revision 04, dated July 30, 2013; and Airbus Service Bulletin A340-32-4222, Revision 03, dated January 28, 2011; as applicable.

“Contacting the Manufacturer” Paragraph in This AD

Since late 2006, we have included a standard paragraph titled “Airworthy Product” in all MCAI ADs in which the FAA develops an AD based on a foreign authority's AD.

The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In the NPRM (79 FR 7098, February 6, 2014; corrected March 20, 2014 (79 FR 15555)), we proposed to prevent the use of repairs that were not specifically developed to correct the unsafe condition, by requiring that the repair approval provided by the State of Design Authority or its delegated agent specifically refer to this FAA AD. This change was intended to clarify the method of compliance and to provide operators with better visibility of repairs that are specifically developed and approved to correct the unsafe condition. In addition, we proposed to change the phrase “its delegated agent” to include a design approval holder (DAH) with State of Design Authority design organization approval (DOA), as applicable, to refer to a DAH authorized to approve required repairs for the proposed AD.

No comments were provided to the NPRM (79 FR 7098, February 6, 2014; corrected March 20, 2014 (79 FR 15555)) about these proposed changes. However, a comment was provided for an NPRM having Directorate Identifier 2012-NM-101-AD (78 FR 78285, December 26, 2013). The commenter stated the following: “The proposed wording, being specific to repairs, eliminates the interpretation that Airbus messages are acceptable for approving minor deviations (corrective actions) needed during accomplishment of an AD mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this AD to obtain corrective actions from a manufacturer, the actions must be accomplished using a method approved by the FAA, the European Aviation Safety Agency (EASA), or Airbus's EASA Design Organization Approval (DOA).

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

Other commenters to the NPRM having Directorate Identifier 2012-NM-101-AD (78 FR 78285, December 26, 2013) pointed out that in many cases the foreign manufacturer's service bulletin and the foreign authority's MCAI might have been issued some time before the FAA AD. Therefore, the DOA might have provided U.S. operators with an approved repair, developed with full awareness of the unsafe condition, before the FAA AD is issued. Under these circumstances, to comply with the FAA AD, the operator would be required to go back to the manufacturer's DOA and obtain a new approval document, adding time and expense to the compliance process with no safety benefit.

Based on these comments, we removed the requirement that the DAH-provided repair specifically refer to this AD. Before adopting such a requirement, the FAA will coordinate with affected DAHs and verify they are prepared to implement means to ensure that their repair approvals consider the unsafe condition addressed in this AD. Any such requirements will be adopted through the normal AD rulemaking process, including notice-and-comment procedures, when appropriate.

We also have decided not to include a generic reference to either the “delegated agent” or “DAH with State of Design Authority design organization approval,” but instead we have provided the specific delegation approval granted by the State of Design Authority for the DAH.

Conclusion

We reviewed the available data, including the comment received, and determined that air safety and the public interest require adopting this AD with the changes described previously and minor editorial changes. We have determined that these changes:

• Are consistent with the intent that was proposed in the NPRM (79 FR 7098, February 6, 2014; corrected March 20, 2014 (79 FR 15555)) for correcting the unsafe condition; and

• Do not add any additional burden upon the public than was already proposed in the NPRM (79 FR 7098, February 6, 2014; corrected March 20, 2014 (79 FR 15555)).

We also determined that these changes will not increase the economic burden on any operator or increase the scope of this AD.

Costs of Compliance

We estimate that this AD affects 24 Model A330-200 and -300 series airplanes of U.S. registry. There are no Model A340-200 or -300 series airplanes of U.S. registry.

We estimate that it will take about 67 work-hours per product to comply with the basic requirements of this AD. The average labor rate is $85 per work-hour. Required parts will cost about $56,000 per product (2 actuators). Based on these figures, we estimate the cost of this AD on U.S. operators to be $1,480,680, or $61,695 per product.

In addition, we estimate that any necessary follow-on actions will take about 38 work-hours and require parts costing $56,000 (2 actuators), for a cost of $59,230 per product. We have no way of determining the number of aircraft that might need these actions.

According to the manufacturer, some of the costs of this AD may be covered under warranty, thereby reducing the cost impact on affected individuals. We do not control warranty coverage for affected individuals. As a result, we have included all costs in our cost estimate.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0132; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2004-16-01, Amendment 39-13757 (69 FR 46979, August 4, 2004), and adding the following new AD:

2014-23-07 Airbus: Amendment 39-18023. Docket No. FAA-2014-0132; Directorate Identifier 2012-NM-007-AD.

(a) Effective Date

This AD becomes effective December 31, 2014.

(b) Affected ADs

This AD replaces AD 2004-16-01, Amendment 39-13757 (69 FR 46979, August 4, 2004).

(c) Applicability

This AD applies to Airbus Model A330-201, -202, -203, -223, -243, -301, -302, -303, -321, -322, -323, -341, -342, and -343 airplanes; and Model A340-211, -212, -213, -311, -312, and -313 airplanes; certificated in any category; all manufacturer serial numbers, except for those airplanes that have had Airbus Modification 52980 incorporated in production on both main landing gear (MLG) units, or airplanes that have had Airbus Modification 54500 incorporated in production.

(d) Subject

Air Transport Association (ATA) of America Code 32, Landing Gear.

(e) Reason

This AD was prompted by reports of the piston rods for the MLG retraction actuators rupturing during flight. We are issuing this AD to prevent cracking of the piston rods for the MLG retraction actuators, which could result in rupture of a piston rod, non-damped extension of the MLG, high loads on the fully extended MLG, and consequent reduced structural integrity of the MLG.

(f) Compliance

Comply with this AD within the compliance times specified, unless already done.

(g) Repetitive Detailed Inspections

At the applicable time specified in paragraph (g)(1) or (g)(2) of this AD: Do a detailed inspection for cracking of the visible chromed area of the MLG retraction actuator piston rods in the fully extended position, in accordance with the Accomplishment Instructions of Airbus Service Bulletin A330-32-3173, Revision 05, dated September 26, 2008 (for Model A330-200 and -300 series airplanes); or Airbus Service Bulletin A340-32-4212, Revision 05, dated September 26, 2008 (for Model A340-200 and -300 series airplanes). Repeat the inspection thereafter at intervals not to exceed 8 days until the actions required by paragraphs (j) and (o) of this AD are accomplished.

(1) For MLG retraction actuator piston rods that have not had a detailed inspection accomplished as of the effective date of this AD, as described in any applicable service information specified in paragraph (h)(1) or (h)(2) of this AD: At the applicable time specified in paragraph (g)(1)(i) or (g)(1)(ii) of this AD.

(i) For MLG retraction actuator piston rods having part number (P/N) 114256309 or P/N 114256321 issue 03: Do the inspection within 60 days after the effective date of this AD, or before the MLG retraction actuator has been in service 36 months, whichever occurs later.

(ii) For MLG retraction actuator piston rods having P/N 114256326 issue 01 or P/N 114256321 issue 06: Do the inspection within 60 days after the effective date of this AD, or before the MLG retraction actuator has been in service 72 months, whichever occurs later.

(2) For MLG retraction actuator piston rods having P/N 114256309, P/N 114256321 issue 03, P/N 114256326 issue 01, or P/N 114256321 issue 06, that have had a detailed inspection accomplished as of the effective date of this AD, as described in the applicable service information specified in paragraph (h)(1) or (h)(2) of this AD: Inspect within 8 days after the effective date of this AD.

(h) Service Information for Determining Airplane Configuration for the Actions Required by Paragraph (g) of This AD

(1) For Model A330-200 and -300 series airplanes:

(i) Airbus Service Bulletin A330-32-3173, Revision 01, dated June 16, 2004;

(ii) Airbus Service Bulletin A330-32-3173, Revision 02, dated May 11, 2005;

(iii) Airbus Service Bulletin A330-32-3173, Revision 03, dated March 13, 2006;

(iv) Airbus Service Bulletin A330-32-3173, Revision 04, dated June 12, 2006; or

(v) Airbus Service Bulletin A330-32-3173, Revision 05, dated September 26, 2008.

(2) For Model A340-200 and -300 series airplanes:

(i) Airbus Service Bulletin A340-32-4212, Revision 01, dated June 16, 2004;

(ii) Airbus Service Bulletin A340-32-4212, Revision 02, dated May 11, 2005;

(iii) Airbus Service Bulletin A340-32-4212, Revision 03, dated March 13, 2006;

(iv) Airbus Service Bulletin A340-32-4212, Revision 04, dated June 12, 2006; or

(v) Airbus Service Bulletin A340-32-4212, Revision 05, dated September 26, 2008.

(i) Corrective Action for Cracking

If any cracking is found during any inspection required by paragraph (g) of this AD: Before further flight, replace the MLG retraction actuator with a new or serviceable part, in accordance with the Accomplishment Instructions of Airbus Service Bulletin A330-32-3173, Revision 05, dated September 26, 2008 (for Model A330-200 and -300 series airplanes); or Airbus Service Bulletin A340-32-4212, Revision 05, dated September 26, 2008 (for Model A340-200 and -300 series airplanes).

(j) Repetitive Fluid Draining and Vent Hole Sealing

At the applicable time specified in paragraph (j)(1) or (j)(2) of this AD: Drain any fluid from the retraction actuator piston rod internal volume and seal the vent hole, in accordance with the Accomplishment Instructions of Airbus Service Bulletin A330-32-3173, Revision 05, dated September 26, 2008 (for Model A330-200 and -300 series airplanes); or Airbus Service Bulletin A340-32-4212, Revision 05, dated September 26, 2008 (for Model A340-200 and -300 series airplanes). Repeat the draining and sealing thereafter at intervals not to exceed 1,000 flight cycles or 24 months, whichever occurs first.

(1) For MLG retraction actuator piston rods that have not been inspected and have not had the fluid drained as of the effective date of this AD, as described in the applicable service information specified in paragraph (k)(1) or (k)(2) of this AD: At the applicable time specified in paragraph (j)(1)(i) or (j)(1)(ii) of this AD.

(i) For MLG retraction actuator piston rods having P/N 114256309 or P/N 114256321 issue 03: Do the draining and sealing within 60 days after the effective date of this AD, or before the MLG retraction actuator has been in service 36 months, whichever occurs later.

(ii) For MLG retraction actuator piston rods having P/N 114256326 issue 01 or P/N 114256321 issue 06: Do the draining and sealing within 60 days after the effective date of this AD, or before the MLG retraction actuator has been in service 72 months, whichever occurs later.

(2) For MLG retraction actuator piston rods having P/N 114256309, P/N 114256321 issue 03, P/N 114256326 issue 01, or P/N 114256321 issue 06, that have been inspected and the fluid drained as of the effective date of this AD, as described in the applicable service information specified in paragraph (k)(1) or (k)(2) of this AD: Do the draining and sealing at the later of the times specified in paragraphs (j)(2)(i) and (j)(2)(ii) of this AD.

(i) Within 1,000 flight cycles or 24 months, whichever occurs first, from the last inspection and fluid drainage accomplished in accordance with the requirements of paragraph (j) of this AD.

(ii) Within 60 days after the effective date of this AD.

(k) Service Information for Determining Airplane Configuration for the Actions Required by Paragraph (j) of This AD

(1) For Model A330-200 and -300 series airplanes:

(i) Airbus Service Bulletin A330-32-3173, Revision 02, dated May 11, 2005;

(ii) Airbus Service Bulletin A330-32-3173, Revision 03, dated March 13, 2006;

(iii) Airbus Service Bulletin A330-32-3173, Revision 04, dated June 12, 2006; or

(iv) Airbus Service Bulletin A330-32-3173, Revision 05, dated September 26, 2008.

(2) For Model A340-200 and -300 series airplanes:

(i) Airbus Service Bulletin A340-32-4212, Revision 02, dated May 11, 2005;

(ii) Airbus Service Bulletin A340-32-4212, Revision 03, dated March 13, 2006;

(iii) Airbus Service Bulletin A340-32-4212, Revision 04, dated June 12, 2006; or

(iv) Airbus Service Bulletin A340-32-4212, Revision 05, dated September 26, 2008.

(l) Ultrasonic Inspection

At the applicable time specified in paragraph (l)(1) or (l)(2) of this AD: Do an ultrasonic longitudinal inspection for cracking of the retraction actuator piston rod end, in accordance with the Accomplishment Instructions of Airbus Service Bulletin A330-32-3173, Revision 05, dated September 26, 2008 (for Model A330-200 and -300 series airplanes); or Airbus Service Bulletin A340-32-4212, Revision 05, dated September 26, 2008 (for Model A340-200 and -300 series airplanes).

(1) For MLG retraction actuator piston rods that have not had a non-destructive test (NDT) inspection as of the effective date of this AD, as described in the applicable service information specified in paragraph (m)(1) or (m)(2) of this AD: At the applicable time specified in paragraph (l)(1)(i) or (l)(1)(ii) of this AD.

(i) For MLG retraction actuator piston rods having P/N 114256309 or P/N 114256321 issue 03: Do the inspection within 60 days after the effective date of this AD, or before the MLG retraction actuator has been in service 36 months, whichever occurs later.

(ii) For MLG retraction actuator piston rods having P/N 114256326 issue 01 or P/N 114256321 issue 06: Do the inspection within 60 days after the effective date of this AD, or before the MLG retraction actuator has been in service 72 months, whichever occurs later.

(2) For MLG retraction actuator piston rods having P/N 114256309, P/N 114256321 issue 03, P/N 114256326 issue 01, or P/N 114256321 issue 06, that have had an NDT inspection as of the effective date of this AD, as described in the applicable service information specified in paragraph (m)(1) or (m)(2) of this AD: Do the inspection at the later of the times specified in paragraphs (l)(2)(i) and (l)(2)(ii) of this AD.

(i) Within 1,400 flight hours, 250 flight cycles, or 4 months, whichever occurs first after the date of the last ultrasonic longitudinal inspection performed as described in the applicable service information specified in paragraph (m)(1) or (m)(2) of this AD.

(ii) Within 60 days after the effective date of this AD.

(m) Service Information for Determining Airplane Configuration for the Actions Required by Paragraph (l) of This AD

(1) For Model A330-200 and -300 series airplanes:

(i) Airbus Service Bulletin A330-32-3173, dated December 17, 2003;

(ii) Airbus Service Bulletin A330-32-3173, Revision 01, dated June 16, 2004;

(iii) Airbus Service Bulletin A330-32-3173, Revision 02, dated May 11, 2005;

(iv) Airbus Service Bulletin A330-32-3173, Revision 03, dated March 13, 2006;

(v) Airbus Service Bulletin A330-32-3173, Revision 04, dated June 12, 2006; or

(vi) Airbus Service Bulletin A330-32-3173, Revision 05, dated September 26, 2008.

(2) For Model A340-200 and -300 series airplanes:

(i) Airbus Service Bulletin A340-32-4212, dated December 17, 2003;

(ii) Airbus Service Bulletin A340-32-4212, Revision 01, dated June 16, 2004;

(iii) Airbus Service Bulletin A340-32-4212, Revision 02, dated May 11, 2005;

(iv) Airbus Service Bulletin A340-32-4212, Revision 03, dated March 13, 2006;

(v) Airbus Service Bulletin A340-32-4212, Revision 04, dated June 12, 2006; or

(vi) Airbus Service Bulletin A340-32-4212, Revision 05, dated September 26, 2008.

(n) Corrective Action for Ultrasonic Inspection; Repetitive Interval

(1) If the finding of the inspection required by paragraph (l) of this AD gives an indication of 75 percent or higher of full screen height (FSH) and between 5 and 7 in time base: Before further flight, replace the MLG retraction actuator with a new or serviceable part, in accordance with the Accomplishment Instructions of Airbus Service Bulletin A330-32-3173, Revision 05, dated September 26, 2008 (for Model A330-200 and -300 series airplanes); or Airbus Service Bulletin A340-32-4212, Revision 05, dated September 26, 2008 (for Model A340-200 and -300 series airplanes).

(2) If the finding of the inspection required by paragraph (l) of this AD gives an indication of less than 75 percent FSH and between 5 and 7 in time base: Repeat the inspection required by paragraph (l) of this AD thereafter at intervals not to exceed 1,400 flight hours, 250 flight cycles, or 4 months, whichever occurs first.

(o) One-Time Ultrasonic Inspections of the Full-Length of the Piston Rod

At the applicable time specified in paragraph (o)(1) or (o)(2) of this AD: Do a full-length ultrasonic longitudinal and a full-length circumferential inspection of the chromium-plated area of the piston rod for cracking, in accordance with the Accomplishment Instructions of Airbus Service Bulletin A330-32-3173, Revision 05, dated September 26, 2008 (for Model A330-200 and -300 series airplanes); or Airbus Service Bulletin A340-32-4212, Revision 05, dated September 26, 2008 (for Model A340-200 and -300 series airplanes).

(1) For MLG retraction actuator piston rods having P/N 114256309 or P/N 114256321 issue 03: Inspect at the later of the times specified in paragraphs (o)(1)(i) and (o)(1)(ii) of this AD.

(i) Within 1,750 flight hours, 315 flight cycles, or 5 months after the effective date of this AD, whichever occurs first.

(ii) Before the MLG retraction actuator has been in service 36 months.

(2) For MLG retraction actuator piston rods having P/N 114256326 issue 01 or P/N 114256321 issue 06: Inspect at the later of the times specified in paragraphs (o)(2)(i) and (o)(2)(ii) of this AD.

(i) Within 1,750 flight hours, 315 flight cycles, or 5 months after the effective date of this AD, whichever occurs first.

(ii) Before the MLG retraction actuator has been in service 72 months.

(p) Corrective Action for One-Time Ultrasonic Inspections of the Full-Length of the Piston Rod

(1) If the finding of the full-length ultrasonic longitudinal inspection required by paragraph (o) of this AD gives an indication of 75 percent or higher FSH and between 5 and 7 in time base: Before further flight, replace the MLG retraction actuator with a new or serviceable part, in accordance with the Accomplishment Instructions of Airbus Service Bulletin A330-32-3173, Revision 05, dated September 26, 2008 (for Model A330-200 and -300 series airplanes); or Airbus Service Bulletin A340-32-4212, Revision 05, dated September 26, 2008 (for Model A340-200 and -300 series airplanes).

(2) If the finding of the full-length ultrasonic circumferential inspection required by paragraph (o) of this AD gives an indication of 75 percent or higher FSH and between 7 and 9.5 in time base: Before further flight, replace the MLG retraction actuator with a new or serviceable part, in accordance with the Accomplishment Instructions of Airbus Service Bulletin A330-32-3173, Revision 05, dated September 26, 2008 (for Model A330-200 and -300 series airplanes); or Airbus Service Bulletin A340-32-4212, Revision 05, dated September 26, 2008 (for Model A340-200 and -300 series airplanes).

(q) Reporting Requirement

Report the results (regardless of findings) of the detailed inspection, the fluid drain/seal of the retraction actuator piston rod, the one-time ultrasonic longitudinal inspection of the piston rod end, and the one-time full-length ultrasonic longitudinal and circumferential inspection required by this AD, and the findings of the actions required by this AD that cause an actuator to be replaced, in accordance with the Accomplishment Instructions of Airbus Service Bulletin A330-32-3173, Revision 05, dated September 26, 2008 (for Model A330-200 and -300 series airplanes); or Airbus Service Bulletin A340-32-4212, Revision 05, dated September 26, 2008 (for Model A340-200 and -300 series airplanes). Submit the report to Airbus Customer Services Directorate, Attention: SEDCC1 Technical Data and Documentation Services fax: (+33) 5 61 93 28 06; email: sb.reporting@airbus.com; or via your Airbus resident customer support office. Submit the report at the applicable time specified in paragraph (q)(1) or (q)(2) of this AD.

(1) If the actions requiring reporting, as specified in paragraph (q) of this AD, are done on or after the effective date of this AD: Submit the report within 90 days after those actions have been done.

(2) If the actions requiring reporting, as specified in paragraph (q) of this AD, were done before the effective date of this AD: Submit the report within 90 days after the effective date of this AD.

(r) Terminating Actions for Repetitive Detailed Inspections

Accomplishment of the initial drainage of the fluid from the piston, as required by paragraph (j) of this AD; and the full-length ultrasonic longitudinal inspection, and the full-length circumferential inspection, as required by paragraph (o) of this AD; constitutes terminating action for the repetitive detailed inspections required by paragraph (g) of this AD, provided no crack is found during the inspections.

(s) Terminating Modification

Within 48 months after the effective date of this AD: Modify the left-hand and right-hand MLG retraction actuators, in accordance with the Accomplishment Instructions of Airbus Service Bulletin A330-32-3180, Revision 05, dated January 27, 2014 (for Model A330-200 and -300 series airplanes); or Airbus Service Bulletin A340-32-4222, Revision 04, dated July 30, 2013 (for Model A340-200 and -300 series airplanes). Accomplishment of the modification required by this paragraph terminates the repetitive requirements of this AD for the MLG retraction actuator that is modified.

(t) Exception to Re-Identification of the MLG Retraction Actuator

The re-identification of the MLG retraction actuator having P/N 114256002-055, which is described in Airbus Service Bulletin A330-32-3180, Revision 05, dated January 27, 2014 (for Model A330-200 and -300 series airplanes); and Airbus Service Bulletin A340-32-4222, Revision 04, dated July 30, 2013 (for Model A340-200 and -300 series airplanes); is not required on airplanes that have Airbus modification 52980 embodied in production.

(u) Optional Parts Installation

Installation of a retraction actuator piston rod having P/N 114256323, in accordance with the Accomplishment Instructions of Airbus Service Bulletin A330-32-3174, Revision 02, dated September 16, 2005 (for Model A330-200 and -300 series airplanes); or Airbus Service Bulletin A340-32-4213, Revision 01, dated September 16, 2005 (for Model A340-200 and -300 series airplanes); is an acceptable method of compliance with the requirements of paragraphs (g), (j), (l), and (o) of this AD for that installed MLG retraction actuator.

(v) Parts Installation Limitation

As of the effective date of this AD, no person may install a piston rod having P/N 114256309, P/N 114256321, or P/N 114256326 issue 01 for the MLG retraction actuator on any airplane, unless the part meets the applicable requirements of this AD at the specified times and intervals.

(w) Credit for Previous Actions

(1) This paragraph provides credit for the actions required by paragraphs (g), (j), (l), and (o) of this AD, if those actions were performed before the effective date of this AD using the service information specified in paragraphs (w)(1)(i) through (w)(1)(ix) of this AD.

(i) Airbus Service Bulletin A330-32-3173, dated December 17, 2003; (for Model A330-200 and -300 series airplanes).

(ii) Airbus Service Bulletin A330-32-3173, Revision 01, dated June 16, 2004 (for Model A330-200 and -300 series airplanes).

(iii) Airbus Service Bulletin A330-32-3173, Revision 02, dated May 11, 2005 (for Model A330-200 and -300 series airplanes).

(iv) Airbus Service Bulletin A330-32-3173, Revision 03, dated March 13, 2006 (for Model A330-200 and -300 series airplanes).

(v) Airbus Service Bulletin A330-32-3173, Revision 04, dated June 12, 2006 (for Model A330-200 and -300 series airplanes).

(vi) Airbus Service Bulletin A340-32-4212, dated December 17, 2003 (for Model A340-200 and -300 series airplanes).

(vii) Airbus Service Bulletin A340-32-4212, Revision 01, dated June 16, 2004 (for Model A340-200 and -300 series airplanes).

(viii) Airbus Service Bulletin A340-32-4212, Revision 02, dated May 11, 2005; Revision 03, dated March 13, 2006 (for Model A340-200 and -300 series airplanes).

(ix) Airbus Service Bulletin A340-32-4212, Revision 04, dated June 12, 2006 (for Model A340-200 and -300 series airplanes).

(2) This paragraph provides credit for the actions required by paragraph (s) of this AD, if the modification was done before the effective date of this AD using the service information specified in paragraphs (u)(2)(i) through (u)(2)(iv) of this AD. These service bulletins are not incorporated by reference in this AD.

(i) Airbus Service Bulletin A330-32-3180, Revision 01, dated August 15, 2005 for Model A330-200 and -300 series airplanes).

(ii) Airbus Service Bulletin A330-32-3180, Revision 02, dated April 4, 2007 (for Model A330-200 and -300 series airplanes).

(iii) Airbus Service Bulletin A330-32-3180, Revision 03, dated January 28, 2011.

(iv) Airbus Service Bulletin A330-32-3180, Revision 04, dated July 30, 2013.

(v) Airbus Service Bulletin A340-32-4222, Revision 01, dated August 15, 2005 (for Model A340-200 and -300 series airplanes).

(vi) Airbus Service Bulletin A340-32-4222, Revision 02, dated April 4, 2007 (for Model A340-200 and -300 series airplanes).

(vii) Airbus Service Bulletin A340-32-4222, Revision 03, dated January 28, 2011 (for Model A340-200 and -300 series airplanes).

(3) This paragraph provides credit for the actions required by paragraph (s) of this AD, if the modification was done before the effective date of this AD using Airbus Service Bulletin A340-32-4222, dated September 20, 2004; and the re-identification was done before the effective date of this AD using Airbus Service Bulletin A340-32-4222, Revision 01, dated August 15, 2005, or Airbus Service Bulletin A340-32-4222, Revision 02, dated April 4, 2007. These service bulletins are not incorporated by reference in this AD.

(x) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(y) Related Information

(1) Refer to Mandatory Continuing Airworthiness Information (MCAI) European Aviation Safety Agency Airworthiness Directive 2011-0178R1, dated March 6, 2012 (corrected March 7, 2012); and Airworthiness Directive 2011-0179R1, dated March 6, 2012; for related information. You may examine the MCAI in the AD docket on the Internet at http://www.regulations.gov/#!documentDetail;D=FAA-2014-0132-0003.

(2) Service information identified in this AD that is not incorporated by reference in this AD is available at the addresses specified in paragraphs (z)(5) and (z)(6) of this AD.

(z) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on December 31, 2014.

(i) Airbus Service Bulletin A330-32-3173, dated December 17, 2003.

(ii) Airbus Service Bulletin A330-32-3173, Revision 02, dated May 11, 2005.

(iii) Airbus Service Bulletin A330-32-3173, Revision 03, dated March 13, 2006.

(iv) Airbus Service Bulletin A330-32-3173, Revision 04, dated June 12, 2006.

(v) Airbus Service Bulletin A330-32-3173, Revision 05, dated September 26, 2008.

(vi) Airbus Service Bulletin A330-32-3174, Revision 02, dated September 16, 2005.

(vii) Airbus Service Bulletin A330-32-3180, Revision 05, dated January 27, 2014.

(viii) Airbus Service Bulletin A340-32-4212, dated December 17, 2003.

(ix) Airbus Service Bulletin A340-32-4212, Revision 02, dated May 11, 2005.

(x) Airbus Service Bulletin A340-32-4212, Revision 03, dated March 13, 2006.

(xi) Airbus Service Bulletin A340-32-4212, Revision 04, dated June 12, 2006.

(xii) Airbus Service Bulletin A340-32-4212, Revision 05, dated September 26, 2008.

(xiii) Airbus Service Bulletin A340-32-4213, Revision 01, dated September 16, 2005.

(xiv) Airbus Service Bulletin A340-32-4222, Revision 04, dated July 30, 2013.

(4) The following service information was approved for IBR on August 19, 2004 (69 FR 46979, August 4, 2004).

(i) Airbus Service Bulletin A330-32-3173, Revision 01, dated June 16, 2004.

(ii) Airbus Service Bulletin A340-32-4212, Revision 01, dated June 16, 2004.

(5) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on November 5, 2014.
Jeffrey E. Duven,
Manager, Transport Airplane Directorate, Aircraft Certification Service.

[FR Doc. 2014-26986 Filed 11-25-14; 8:45 am]

BILLING CODE 4910-13-P